DEPARTMENT OF TRANSPORTATION

Federal Transit Administration

Federal Transit Administration Notice To Rescind the Record of Decision (ROD) for the Baltimore Red Line Project Baltimore County and City, Maryland

AGENCY: Federal Transit Administration, DOT.

ACTION: Rescind the Record of Decision.

SUMMARY: The Federal Transit Administration (FTA), in cooperation with the Maryland Transit Administration (MTA), is issuing this notice to advise the public that the Record of Decision (ROD) for the proposed Red Line Project in Baltimore County and City in Maryland is being rescinded.

FOR FURTHER INFORMATION CONTACT: Ms. Kathleen Zubrzycki, Community Planner, Federal Transit Administration Region III, 1760 Market St., Suite 500, Philadelphia, PA, 19103-4124 phone 215-656-7262 email kathleen.zubrzycki@dot.gov.

SUPPLEMENTARY INFORMATION: The FTA, as the lead federal agency, in cooperation with MTA published a ROD on February 28, 2013 for the Red Line project, a 14-miles light rail transit line from the Centers of Medicare & Medicaid Services in Baltimore County to the Johns Hopkins Bayview Medical Center campus in Baltimore City. The transitway proposed a combination of surface, tunnel and aerial segments with 19 stations (14 surface and 5 underground); three new park-and-ride facilities, and other ancillary facilities. Since issuance of the ROD, MTA notified FTA that federal funds will not be pursued and that the project is cancelled as directed by the Governor of Maryland. Therefore, FTA has determined that the ROD for the Final Environmental Impact Statement dated December 4, 2012 will be rescinded since there will be no federal action, and the requirements of the National Environmental Policy Act pursuant to 42 U.S.C. 4321, et seq. and 23 Code of Federal Regulations 771 no longer apply. Comments and questions concerning the proposed action should be directed to FTA at the address provided above.

Terry Garcia Crews,
Regional Administrator, Federal Transit Administration, Region III.

[FR Doc. 2015-25930 Filed 10-9-15; 8:45 am]

BILLING CODE P